DEPARTMENT OF ENERGY

Office of Energy Efficiency and Renewable Energy

Proposed Agency Information Collection

AGENCY: Office of Energy Efficiency and Renewable Energy, U.S. Department of Energy.

ACTION: Notice and Request for OMB Review and Comment.

SUMMARY: The Department of Energy (DOE) has submitted to the Office of Management and Budget (OMB) for clearance, a proposal for collection of information under the provisions of the Paperwork Reduction Act of 1995. The proposed collection will gather information on solar energy market indicators. The Solar Energy Technologies Program (SETP) seeks to reduce non-hardware costs of solar systems associated with processes such as project siting, permitting and interconnection, system installation, and project financing. In order to direct strategic investments toward reducing those costs, the Agency requires information on the current status of non-hardware costs and the underlying cost drivers. Questions for this collection are focused on permitting processes, interconnection processes, available financing options, and planning and zoning issues as they relate to rooftop solar PV installations.

DATES: Comments regarding this collection must be received on or before October 3, 2011. If you anticipate that you will be submitting comments, but find it difficult to do so within the period of time allowed by this notice, please advise the DOE Desk Officer at OMB of your intention to make a submission as soon as possible. The Desk Officer may be telephoned at 202-395-4650.

ADDRESSES: Written comments should be sent to the

DOE Desk Officer, Office of Information and Regulatory Affairs, Office of Management and Budget, New Executive Office Building, Room 10102, 735 17th Street, NW., Washington, DC 20503.

And to

Jennifer DeCesaro, U.S. Department of Energy, 1000 Independence Ave., SW., Washington, DC, 20585, Fax: 202-586-8148, Jennifer.DeCesaro@ee.doe.gov.

FOR FURTHER INFORMATION CONTACT: Jennifer DeCesaro, U.S. Department of Energy, 1000 Independence Ave., SW., Washington, DC 20585. Fax: 202-586-8148. Jennifer.DeCesaro@ee.doe.gov.

SUPPLEMENTARY INFORMATION: This information collection request contains: (1) OMB No. New; (2) Information Collection Request Title: Solar Market Indicators: Data collection from local jurisdictions and other relevant regional stakeholders (e.g. non-profit organizations, state energy offices) on policies and processes that contribute to solar system costs; (3) Type of Request: New collection; (4) Purpose: The DOE will use this information to establish a baseline for key solar market indicators and process contributions to the non-hardware costs for solar installations, an effort that has not been formally undertaken by the Federal government or industry to date. Likely respondents are local jurisdictions, state governments, and non-profit organizations; (5) Annual Estimated Number of Respondents: 35; (6) Annual Estimated Number of Total Responses: 35; (7) Annual Estimated Number of Burden Hours: 210; (8) Annual Estimated Reporting and Recordkeeping Cost Burden: $0.

Statutory Authority: These activities are authorized under the Solar Photovoltaic Energy Research, Development, and Demonstration Act of 1978, Pub. L. 95-590, codified at 42 U.S.C. 5581 et seq., and the Department of Energy Organization Act, Pub. L. 95-91, as amended, codified at 42 U.S.C. 7101 et seq.

Issued in Washington, DC, on August 30, 2011.
Ramamoorthy Ramesh,
Program Manager, Solar Energy Technologies Program, Office of Energy Efficiency and Renewable Energy.

[FR Doc. 2011-22599 Filed 9-1-11; 8:45 am]

BILLING CODE 6450-01-P